SECURITIES AND EXCHANGE COMMISSION

Submission for OMB Review; Comment Request

Upon Written Request, Copies Available From: Securities and Exchange Commission, Office of Filings and Information Services, Washington, DC 20549.

Extension:

Form F-3; OMB Control No. 3235-0256; SEC File No. 270-251

Form F-7; OMB Control No. 3235-0383; SEC File No. 270-331

Form F-8; OMB Control No. 3235-0378; SEC File No. 270-332

Schedule 14D-1F; OMB Control No. 3235-0376; SEC File No. 270-338

Schedule 14D-9F; OMB Control No. 3235-0382; SEC File No. 270-339

Notice is hereby given that pursuant to the Paperwork Reduction Act of 1995 (44 U.S.C. 3501 et seq.) the Securities and Exchange Commission (“Commission”) has submitted to the Office of Management and Budget requests for extension of the previously approved collections of information discussed below.

Form F-3 is used by foreign issuers to register securities pursuant to the Securities Act of 1933. The information collected is intended to ensure that the information required to be filed by the Commission permits verification of compliance with securities law requirements and assures the public availability of such information. The information provided is mandatory and all information is made available to the public upon request. Form F-3 it takes approximately 166 hours per response and is filed by approximately 120 respondents for a total burden of 19,920 hours. It is estimated that 25% of the total burden hours (4,980 reporting burden hours) is prepared by the issuer.

Form F-7 may be used to register under the Securities Act securities offered for cash upon exercise of rights that are granted to its existing shareholders of the registrant to purchase or subscribe such securities. The information collected is intended to ensure that the information required to be filed by the Commission permits verification of compliance with securities law requirements and assures the public availability of such information. The information provided is mandatory and all information is made available to the public upon request. Approximately 5 respondents file Form F-7 and it takes approximately 4 hours per response for a total burden of 20 hours. It is estimated that 25% of the total burden hours (5 reporting burden hours) is prepared by the company.

Form F-8 may be used to register under the Securities Act securities of certain Canadian issuers to be used in exchange offers or business combinations. The information collected is intended to ensure that the information required to be filed by the Commission permits verification of compliance with securities law requirements and assures the public availability of such information. The information provided is mandatory and all information is made available to the public upon request. Approximately 10 respondents file Form F-8 and it takes approximately 1 hour per response for a total burden of 10 hours. It is estimated that 25% of the total burden hours (2.5 reporting burden hours) is prepared by the company.

Schedule 14D-1F may be used by any person making a cash tender or exchange offer (the “bidder”) for securities of any issuer incorporated or organized under the laws of Canada or any Canadian province or territory that is a foreign private issuer, where less than 40% of the outstanding class of such issuer's securities that is the subject of the offer is held by U.S. holders. Schedule 14D-1F is designed to facilitate cross-border transactions in securities of Canadian issuers. The information required to be filed with the Commission is intended to permit verification of compliance with the securities law requirements and assures the public availability of such information. The information provided is mandatory and all information is made available to the public upon request. Approximately 5 respondents file Schedule 14D-1F and it takes approximately 2 hours per response for total burden of 10 hours.

Schedule 14D-9F is used by any issuer incorporated or organized under the laws of Canada or any Canadian province or territory that is foreign private issuer (the “subject company”), or by any director or officer of such issuer, where the issuer's is the subject of a cash tender or exchange offer for a class of securities filed on Schedule 14D-1F. The information required to be filed with the Commission is intended to permit verification of compliance with the securities law requirements and assures the public availability of such information. The information provided is mandatory and all information is made available to the public upon request. Approximately 5 respondents file Schedule 14D-9F and it takes approximately 2 hours per response for total burden of 10 hours.

An agency may not conduct or sponsor, and a person is not required to respond to, a collection of information unless it displays a currently valid control number.

Written comments regarding the above information should be directed to the following persons: (i) Desk Officer for the Securities and Exchange Commission, Office of Information and Regulatory Affairs, Office of Management and Budget, Room 10102, New Executive Office Building, Washington, D.C. 20503; and (ii) Kenneth A. Fogash, Acting Associate Executive Director/CIO, Office of Information Technology, Securities and Exchange Commission, 450 Fifth Street, NW., Washington, DC 20549. Comments must be submitted to OMB within 30 days of this notice.

Dated: August 8, 2003.
Margaret H. McFarland,
Deputy Secretary.

[FR Doc. 03-20818 Filed 8-14-03; 8:45 am]

BILLING CODE 8010-01-P